DEPARTMENT OF TRANSPORTATION

Federal Aviation Administration (FAA)

Notice of Approval of the Record of Decision for the Final Environmental Impact Statement for FAA Site Approval and Land Acquisition by the State of Illinois for a Proposed South Suburban Airport

AGENCY: Federal Aviation Administration (FAA), DOT.

ACTION: Notice of approval of the Record of Decision.

SUMMARY: The FAA is announcing the approval of the Record of Decision (ROD) for the Final Environmental Impact Statement for FAA Site Approval and Land Acquisition by the State of Illinois for a Proposed South Suburban Airport. The ROD provides final agency determinations and approvals for site approval.

FOR FURTHER INFORMATION CONTACT: Denis R. Rewerts, Capacity Officer, Federal Aviation Administration, Chicago Airports District Office, Room 312, 2300 East Devon Avenue, Des Plaines, Illinois 60018. Mr. Rewerts can be contacted at (847) 294-7195 (voice), (847) 294-7046 (facsimile) or by e-mail at 9-AGL-SSA-EIS-PROJECT@faa.gov.

SUPPLEMENTARY INFORMATION: At the request of the State of Illinois, the FAA has prepared the first tier of a tiered Environmental Impact Statement (EIS) to assess impacts relative to FAA site approval and the associated land acquisition by the State for a potential future supplemental air carrier airport to serve the greater Chicago region. The Tier 1 EIS does not consider the site-specific planning, construction, funding, or operation of a potential new supplemental air carrier airport. Subsequent tiered EISs or other environmental documentation as needed, may be prepared and considered in the future to assess the potential impacts that may result from the planning, construction, funding and operation of a potential, supplemental air carrier airport in the south suburban area of Chicago and/or development of existing airports to satisfy future aviation needs in the region.

This Record of Decision provides final agency determinations and approvals for Federal actions by the Federal Aviation Administration (FAA) related to the selection of Will County for a potential South Suburban Airport. These actions are necessary to preserve the option of developing a potential, future air carrier airport to serve the greater Chicago region as determined necessary and appropriate to meet future aviation capacity needs in the region. At a later date, it will be determined how regional aviation capacity needs will be met. The FAA's site approval is based upon the continuing need to protect the airspace and preserve a technically and environmentally feasible site from encroachment from suburban development and provide for continued protection of the airspace. The proposed site, known as the Will County site, commonly known as the Peotone site, is located in Will County, Illinois and is approximately 35 miles south of the Chicago Central Business District. The ultimate site encompasses approximately 24,000 acres.

This ROD approves the Will County, Illinois site to preserve the option for a potential future air carrier airport for the greater Chicago region. The Federal action is described in detail in the Final Environmental Impact Statement (FEIS), South Suburban Airport dated April 2002. The agency's decision is based on the information contained in the FEIS and all other applicable documents available to the agency and considered by it, which constitutes the administrative record.

The FAA's determinations are discussed in the ROD, which was approved on July 12, 2002.

ADDRESSES: The ROD is available for review at the following locations:

1. Chicago Airports District Office, Room 312, Federal Aviation Administration, 2300 East Devon Avenue, Des Plaines, Illinois 60018. Individuals who would like to review the ROD at this office must contact Mr. Denis Rewerts at (847) 294-7195 to make prior arrangements.

2. Governors State University Library, Governors State University, University Park, Illinois 60466.

3. Joliet Public Library, 150 North Ottawa Street, Joliet, Illinois 60432.

4. Northwestern University Library, 1935 Sheridan Road, Evanston, Illinois 60202.

5. Harold Washington Public Library, 400 South State Street, Chicago, Illinois 60605.

6. Kankakee Public Library, 304 South Indiana, Kankakee, Illinois 60901.

7. Matteson Public Library, 801 South School Avenue, Matteson, Illinois 60443.

8. Orland Park Public Library, 14760 Park Lane, Orland Park, Illinois 60462.

9. Crete Public Library, 1177 North Main Street, Crete, Illinois 60417.

10. Indiana University Northwest Library, 3400 Broadway, Gary, Indiana 46408.

11. Purdue University, Calumet Campus Library, 2200 169th Street, Hammond, Indiana 46323.

12. College of DuPage, Learning Resources Center (Library), 425 Second Street, Glen Ellyn, Illinois 60137.

13. Illinois Department of Transportation, 310 South Michigan Avenue, Chicago, Illinois 60604.

14. Illinois Department of Transportation, Illinois Division of Aeronautics, One Langhorne Bond Drive/Capital Airport, Springfield, Illinois 62707.

15. Illinois Department of Transportation, South Suburban Airport Program Office, 4749 Lincoln Mall Drive, Suite 501, Matteson, Illinois 60443.

16. Web site: http://www.faa.gov/arp/app600/5054a/rodidx.htm or http://www.southsuburbanairport.com

Issued in Des Plaines, Illinois.
Philip M. Smithmeyer,
Manager, Chicago Airports District Office, FAA, Great Lakes Region.

[FR Doc. 02-18616 Filed 7-22-02; 8:45 am]

BILLING CODE 4910-13-M